DEPARTMENT OF STATE

[Public Notice: 10156]

Notice Regarding Positive Actions by the Government of Sudan

ACTION: Notice.

SUMMARY: The Secretary of State, in consultation with the Secretary of the Treasury, the Director of National Intelligence, and the Administrator of the U.S. Agency for International Development, is publishing a notice stating that the Government of Sudan has sustained the positive actions that gave rise to Executive Order 13761 of January 13, 2017 (“Recognizing Positive Actions by the Government of Sudan and Providing for the Revocation of Certain Sudan-Related Sanctions”), as amended by Executive Order 13804 of July 11, 2017 (“Allowing Additional Time for Recognizing Positive Actions by the Government of Sudan and Amending Executive Order 13761”). The Secretary of State has also provided to the President a report required in Executive Order 13761, as amended. As a result, the criteria in section 12(b) of Executive Order 13761, as amended, have been fulfilled, making effective sections of that Executive Order that, among other things, revoke certain economic sanctions related to Sudan.

DATES: Effective October 12, 2017.

FOR FURTHER INFORMATION CONTACT: Mark Zimmer, Department of State's Office of the U.S. Special Envoy for Sudan and South Sudan, tel.: 202-647-4531.

SUPPLEMENTARY INFORMATION: Section 12(b) of Executive Order 13761, as amended by section 1(c) of Executive Order 13804, states that sections 1, 4, 5, 6, and 7 of that Executive Order are effective on October 12, 2017, provided that the Secretary of State, in consultation with the Secretary of the Treasury, the Director of National Intelligence, and the Administrator of the U.S. Agency for International Development, has published a notice in the Federal Register on or before that date, stating that the Government of Sudan has sustained the positive actions that gave rise to the Executive Order, and that the Secretary of State has provided to the President the report described in section 10 of that Executive Order.

The Secretary of State, in consultation with the Secretary of the Treasury, the Director of National Intelligence, and the Administrator of the U.S. Agency for International Development, hereby states that the Government of Sudan has sustained the positive actions that gave rise to Executive Order 13761 of January 13, 2017. The Secretary of State has also provided to the President the report described in section 10 of Executive Order 13761, as amended.

As a result, the criteria set forth in section 12(b) of Executive Order 13761, as amended, have been satisfied, and sections 1, 4, 5, 6, and 7 of Executive Order 13761, as amended, are effective on October 12, 2017.

Dated: October 4, 2017.
Rex W. Tillerson,
Secretary of State.

[FR Doc. 2017-21927 Filed 10-10-17; 8:45 am]

BILLING CODE 4710-26-P